DEPARTMENT OF COMMERCE

National Institute of Standards and Technology

Industrial Advisory Committee

AGENCY: National Institute of Standards and Technology, Department of Commerce.

ACTION: Notice of open meeting of the Industrial Advisory Committee.

SUMMARY: The Industrial Advisory Committee (Committee) will hold an in-person and web conference meeting on Tuesday, June 6, 2023, from 9:30 a.m. to 4:30 p.m. Eastern Time. The primary purposes of this meeting are to update the Committee on the progress of the CHIPS R&D Programs, receive updates from the Committee working groups, and allow the Committee to deliberate and discuss the progress that has been made. The final agenda will be posted on the NIST website at https://www.nist.gov/chips/industrial-advisory-committee.

DATES: The Industrial Advisory Committee will meet on Tuesday, June 6, 2023, from 9:30 a.m. to 4:30 p.m. Eastern Time. The meeting will be open to the public.

ADDRESSES: The meeting will be held in person and via web conference from the Mayflower Hotel, located at 1127 Connecticut Ave. NW, Washington, DC 20036. For instructions on how to attend and/or participate in the meeting, please see the SUPPLEMENTARY INFORMATION section of this notice.

FOR FURTHER INFORMATION CONTACT: Regarding the IAC meeting contact Tamiko Ford at Tamiko.Ford@NIST.gov or (202) 594-6793.

SUPPLEMENTARY INFORMATION: The Committee was established pursuant to 15 U.S.C. 4656(b). The Committee is currently composed of 24 members, appointed by the Secretary of Commerce, to provide advice to the United States Government on matters relating to microelectronics research, development, manufacturing, and policy. Background information on the CHIPS Act and information on the Committee is available at https://www.nist.gov/chips/industrial-advisory-committee.

Pursuant to the Federal Advisory Committee Act, as amended, 5 U.S.C. 1001 et seq., notice is hereby given that the Industrial Advisory Committee will meet on Tuesday, June 6, 2023, from 9:30 a.m. to 4:30 p.m. Eastern Time. The meeting will be open to the public and will be held in-person and via web conference. Interested members of the public will be able to participate in the meeting from remote locations. The primary purposes of this meeting are to update the Committee on the progress of the CHIPS R&D Programs, receive updates from the Committee working groups, and allow the Committee to deliberate and discuss the progress that has been made. The final agenda will be posted on the NIST website at https://www.nist.gov/chips/industrial-advisory-committee.

Individuals and representatives of organizations who would like to offer comments and questions related to items on the Committee's agenda for this meeting are invited to submit comments and questions in advance of the meeting. Written comments and questions may be submitted via the registration link. Approximately ten minutes will be reserved for public comments which will be read on a first-come, first-served basis. Public comments and questions will be received through the registration link.

Comments and questions from the public will not be considered during this period. Please note that all submitted comments or questions will be treated as public documents and will be made available for public inspection. All those wishing to submit a comment or question must submit their request and comment or question via the registration link https://events.nist.gov/profile/21414 by 5:00 p.m. Eastern Time, Friday, June 2, 2023. All visitors to the meeting are required to pre-register to be admitted. Space is limited and in-person attendance will be allowed on a first-come, first-served basis. Anyone wishing to attend this meeting in-person or via web conference must register by 5 p.m. Eastern Time, Thursday, June 1, 2023, to attend. Please submit your full name, the organization you represent (if applicable), email address, and phone number via https://events.nist.gov/profile/21414. Non-U.S. citizens must submit additional information; please contact Tamiko Ford at Tamiko.Ford@nist.gov for more information.

For participants attending in person, please note that you must present a state-issued driver's license or identification card for access to the meeting. The license or identification card must be issued by a state that is compliant with the REAL ID Act of 2005 (Pub. L. 109-13), or by a state that has an extension for REAL ID compliance. NIST currently accepts other forms of federal-issued identification in lieu of a state-issued driver's license. Registration for in-person attendance will be available on site and open from 8:30 a.m. until 10 a.m.

Alicia Chambers,
NIST Executive Secretariat.

[FR Doc. 2023-09713 Filed 5-5-23; 8:45 am]

BILLING CODE 3510-13-P